DEPARTMENT OF ENERGY

Federal Energy Regulatory Commission

[Project No. 13232-000]

Coastal Power, Inc.; Notice of Preliminary Permit Application Accepted for Filing and Soliciting Comment, Motions To Intervene, and Competing Applications

July 11, 2008.

On May 27, 2008, Coastal Power, Inc. filed an application, pursuant to section 4(f) of the Federal Power Act, proposing to study the feasibility of the Hell Gate Tidal Project, to be located on the East River in the Manhattan area of New York.

The proposed project would consist of: (1) Six Venturi Water Turbines, dimensions approximately four feet by twelve feet, anchored to the bottom of the river by eight wood pilings, (2) visible towers that house a generator for each turbine, dimensions approximately one foot by one foot, located on the surface of the river, (3) a commercial inverter which is two feet by four feet by three feet and located on the shore of the river, (4) appurtenant facilities. The project would have an annual energy generation of 821,250 KW-hrs per year.

Applicant Contact: Mr. Gregory Aurre III, President, Coastal Power, Inc., 1721 17th Court, Jupiter, Florida 33477; phone: 631-787-6010. FERC Contact: Alyssa Dorval, 202-502-6735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13232) in the docket number field to access the document. For assistance, call toll-free 1-866-208-3372.

Kimberly D. Bose,
Secretary.

[FR Doc. E8-16701 Filed 7-21-08; 8:45 am]

BILLING CODE 6717-01-P